DEPARTMENT OF COMMERCE

National Oceanic and Atmospheric Administration

RIN 0648-XC826

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Bluefish Monitoring Committee and Summer Flounder, Scup, and Black Sea Bass Monitoring Committee will hold a public meeting.

DATES: The Monitoring Committees will meet on Thursday, September 19, 2013 from 9 a.m. until 5 p.m. See SUPPLEMENTARY INFORMATION for meeting agendas.

ADDRESSES: The meeting will be held at the Inn at Henderson's Wharf, 1000 Fell Street, Baltimore, MD 21231; telephone: (410)-522-7777.

Council Address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Bluefish Monitoring Committee and Summer Flounder, Scup, and Black Sea Bass Monitoring Committee will meet on September 19 to discuss and recommend 2014 annual catch targets (ACTs) and other associated management measures for the bluefish, summer flounder, scup, and black sea bass fisheries. Multi-year ACTs and management measures, applicable to fishing years 2014-16, may be considered.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the MAFMC's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: August 20, 2013.
Tracey L. Thompson,
Acting Deputy Director, Office of Sustainable Fisheries, National Marine Fisheries Service.

[FR Doc. 2013-20598 Filed 8-22-13; 8:45 am]

BILLING CODE 3510-22-P